DEPARTMENT OF THE INTERIOR

Bureau of Ocean Energy Management

[BOEM-2015-0078; MMAA104000]

Revised Environmental Assessment for Commercial Wind Lease Issuance and Site Assessment Activities on the Atlantic Outer Continental Shelf Offshore North Carolina

AGENCY: Bureau of Ocean Energy Management (BOEM), Interior.

ACTION: Notice of Availability.

SUMMARY: BOEM is announcing the availability of a revised Environmental Assessment (EA) and Finding of No Significant Impact (FONSI) for commercial wind lease issuance, site characterization activities (geophysical, geotechnical, archaeological, and biological surveys), and site assessment activities (including the installation and operation of a meteorological tower and/or buoys) on the Atlantic Outer Continental Shelf offshore North Carolina. The revised EA provides a discussion of potential impacts of the proposed action and an analysis of reasonable alternatives to the proposed action. In accordance with the requirements of the National Environmental Policy Act (NEPA) and the Council on Environmental Quality's (CEQ) regulations implementing NEPA (40 CFR parts 1500 through 1508), BOEM issued a FONSI supported by the analysis in the revised EA. The FONSI concluded that the reasonably foreseeable environmental impacts associated with the proposed action and alternatives, as set forth in the EA, would not significantly impact the quality of the human environment; therefore, the preparation of an Environmental Impact Statement is not required. These documents and associated information are available on BOEM's Web site at http://www.boem.gov/North-Carolina/.

FOR FURTHER INFORMATION CONTACT: Michelle Morin, BOEM Office of Renewable Energy Programs, 45600 Woodland Road, Sterling, Virginia 20166, (703) 787-1340 or michelle.morin@boem.gov.

SUPPLEMENTARY INFORMATION: In January 2015, BOEM published an EA to consider the reasonably foreseeable environmental consequences associated with commercial wind lease issuance, site characterization activities, and site assessment activities in three wind energy areas (WEAs) offshore North Carolina. The 2015 EA considered all three North Carolina WEAs for leasing and approval of site assessment plans as the proposed action under NEPA. A Notice of Availability was published on January 23, 2015 to announce the availability of the EA and initiate a 30-day public comment period (80 FR 3621). The EA was subsequently revised based on comments received during the comment period and public information meetings. The revised EA provides updated environmental data, additional details on how the WEAs were delineated, and analysis of potential effects to the proposed critical habitat expansion for North Atlantic right whales, which was published during the public comment period for the 2015 EA. A summary of comments received on the 2015 EA and BOEM's responses to those comments is also provided in the revised EA.

In addition to the proposed action, the revised EA considers the following alternatives: Exclusion of the Wilmington West WEA from leasing; seasonal restrictions on certain site characterization activities; and no action. BOEM's analysis of the proposed action and alternatives takes into account standard operating conditions (SOCs) designed to avoid or minimize potential impacts to marine mammals and sea turtles. The SOCs can be found in Appendix B of the revised EA.

BOEM will use the revised EA to inform decisions to issue leases in the North Carolina WEAs, and to subsequently approve site assessment plans on those leases. BOEM may issue one or more commercial wind energy leases in the North Carolina WEAs. The competitive leasing process is set forth at 30 CFR 585.210 through 585.225. If a lessee is prepared to propose a wind energy generation facility on its lease, the lessee can submit a Construction and Operations Plan (COP) to BOEM. BOEM would then prepare a separate site- and project-specific NEPA analysis based on the activities proposed in the COP.

Authority: This Notice of Availability for an EA is in compliance with the National Environmental Policy Act of 1969, as amended (42 U.S.C. 4231 et seq.), and is published pursuant to 43 CFR 46.305.

Dated: August 3, 2015.
Abigail Ross Hopper,
Director, Bureau of Ocean Energy Management.

[FR Doc. 2015-22988 Filed 9-17-15; 8:45 am]

BILLING CODE 4310-MR-P